NUCLEAR REGULATORY COMMISSION

[NRC-2019-0121]

Biweekly Notice: Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from April 23, 2019, to May 6, 2019. The last biweekly notice was published on May 7, 2019.

DATES: Comments must be filed by June 20, 2019. A request for a hearing must be filed by July 22, 2019.

ADDRESSES: You may submit comments by any of the following methods (unless this document describes a different method for submitting comments on a specific subject):

• Federal Rulemaking Website: Go to http://www.regulations.gov and search for Docket ID NRC-2019-0121. Address questions about NRC dockets IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington DC 20555-0001; telephone: 301-415-1927, email: Lynn.Ronewicz@nrc.gov.

SUPPLEMENTARY INFORMATION:

I. Obtaining Information and Submitting Comments

A. Obtaining Information

Please refer to Docket ID NRC-2019-0121, facility name, unit number(s), plant docket number, application date, and subject, when contacting the NRC about the availability of information for this action. You may obtain publicly-available information related to this action by any of the following methods:

• Federal Rulemaking Website: Go to http://www.regulations.gov and search for Docket ID NRC-2019-0121.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0121, facility name, unit number(s), plant docket number, application date, and subject in your comment submission.

The NRC cautions you not to include identifying or contact information that you do not want to be publicly disclosed in your comment submission. The NRC will post all comment submissions at http://www.regulations.gov, as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Entergy Operations, Inc.; System Energy Resources, Inc.; Cooperative Energy, A Mississippi Electric Cooperative; and Entergy Mississippi, LLC, Docket No. 50-416, Grand Gulf Nuclear Station, Unit 1, Claiborne County, Mississippi

Entergy Louisiana, LLC, and Entergy Operations, Inc., Docket No. 50-458, River Bend Station, Unit 1, West Feliciana Parish, Louisiana

Date of amendment request: March 7, 2019. A publicly-available version is in ADAMS under Accession No. ML19070A227.

Description of amendment request: The amendments would revise the Grand Gulf Nuclear Station, Unit 1, and the River Bend Station, Unit 1, Technical Specifications (TSs) Safety Limit 2.1.1.2 and TS 5.6.5, “Core Operation Limits Report (COLR).” The proposed changes are consistent with the NRC-approved Technical Specifications Task Force (TSTF) Traveler TSTF-564, Revision 2, “Safety Limit MCPR [Minimum Critical Power Ratio],” using the consolidated line item improvement process (ADAMS Package Accession No. ML18299A048).

Basis for proposed no significant hazards consideration determination: As required by 10 CFR 50.91(a), the licensee has provided its analysis of the issue of no significant hazards consideration, which is presented below:

1. Do the proposed amendments involve a significant increase in the probability or consequences of an accident previously evaluated?

Response: No.

The proposed amendments revise the TS SLMCPR [safety limit minimum critical power ratio] and the list of core operating limits to be included in the COLR. The SLMCPR is not an initiator of any accident previously evaluated. The revised safety limit values continue to ensure, for all accidents previously evaluated, that the fuel cladding will be protected from failure due to transition boiling. The proposed change does not affect plant operation or any procedural or administrative controls on plant operation that affect functions of preventing or mitigating any accidents previously evaluated.

Therefore, the proposed changes do not involve a significant increase in the probability or consequences of an accident previously evaluated.

2. Do the proposed amendments create the possibility of a new or different kind of accident from any previously evaluated?

Response: No.

The proposed amendments revise the TS SLMCPR and the list of core operating limits to be included in the COLR. The proposed change will not affect the design function or operation of any structures, systems, or components (SSCs). No new equipment will be installed. As a result, the proposed change will not create any credible new failure mechanisms, malfunctions, or accident initiators not considered in the design and licensing bases.

Therefore, the proposed changes do not create the possibility of a new or different kind of accident from any previously evaluated.

3. Do the proposed amendments involve a significant reduction in a margin of safety?

Response: No.

The proposed amendments revise the TS SLMCPR and the list of core operating limits to be included in the COLR. This will result in a change to a safety limit, but will not result in a significant reduction in the margin of safety provided by the safety limit. As discussed in TSTF-564, changing the SLMCPR methodology to one based on a 95% probability with 95% confidence level that no fuel rods experience transition boiling during an anticipated transient instead of the current limit based on ensuring that 99.9% of the fuel rods are not susceptible to boiling transition, does not have a significant effect on plant response to any analyzed accident. The SLMCPR and the TS Limiting Condition for Operation (LCO) on MCPR continue to provide the same level of assurance as the current limits and do not reduce margin of safety.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Vinson Jones, Senior Counsel, Entergy Services, Inc., 101 Constitution Avenue NW, Suite 200 East, Washington, DC 20001.

NRC Branch Chief: Robert J. Pascarelli.

Florida Power & Light Company, et al., Docket Nos. 50-335 and 50-389, St. Lucie Plant, Unit Nos. 1 and 2, St. Lucie County, Florida

Date of amendment request: December 20, 2018. A publicly-available version is in ADAMS under Accession No. ML18354A901.

Description of amendment request: The amendments would revise the Technical Specifications (TSs) by allowing the performance of selected emergency diesel generator (EDG) surveillance requirements during power operation, and by relocating to licensee control two EDG surveillance requirements that are not necessary to demonstrate operability.

Basis for proposed no significant hazards consideration determination: As required by 10 CFR 50.91(a), the licensee has provided its analysis of the issue of no significant hazards consideration, which is presented below:

1. Does the proposed amendment involve a significant increase in the probability or consequences of an accident previously evaluated?

Response: No.

The proposed change modifies the allowable MODEs for selected EDG testing and relocates two EDG testing requirements to licensee control. EDG testing verifies the accident mitigation capabilities assumed in accident analyses. In some cases, the proposed changes could result in detectable electrical perturbations resulting from testing at-power. However, the perturbations do not exceed expected parameters or equipment capabilities, and do not trigger protective safety systems, and thereby cannot increase the likelihood of any accident. In some cases, the proposed changes could delay the ability of the EDG under test to respond to a loss of offsite power. However, the delay is insignificant, the testing would not affect redundant trains or equipment capabilities, and the plant would remain within its licensing basis in response to any postulated event. In addition, administrative controls ensure that the testing would not occur under conditions that could potentially challenge safe operation such as severe weather, etc. The testing selected for relocation to licensee control verify passive capabilities or capabilities verified during pre-operational testing that will not change without physical changes to the station. The proposed changes align the St. Lucie TS with the regulatory guidance of NUREG-1432, Revision 4, and industry precedent, and thereby cannot adversely affect safety.

Therefore, the proposed license amendments would not involve a significant increase in the probability or consequences of an accident previously evaluated.

2. Does the proposed amendment create the possibility of a new or different kind of accident from any accident previously evaluated?

Response: No.

The proposed change modifies the allowable MODEs for EDG testing and relocates two EDG testing requirements to licensee control. In some cases, the proposed change increases the length of time an EDG would be paralleled to the grid during power operation. During such testing, the EDG under test would be declared inoperable for a period well within the current licensing basis. Likewise, station response to any postulated event during such testing would be within its licensing basis. Hence, the proposed change would not introduce new accident initiators or new failure mechanisms and would not alter the expected outcome of any postulated event. The testing selected for relocation to licensee control verify passive equipment capabilities or capabilities verified during pre-operational testing that will not change without physical changes to the station.

Therefore, the proposed license amendments would not create the possibility of a new or different kind of accident from any previously evaluated.

3. Does the proposed amendment involve a significant reduction in a margin of safety?

Response: No.

The proposed change modifies the allowable MODEs for EDG testing and relocates two EDG testing requirements to licensee control. The proposed change does not affect any fission product barrier or modify any set points for which protective actions associated with accident detection or mitigation are initiated. The proposed change neither affects the design of plant equipment nor the manner in which the plant is operated. The proposed changes cannot adversely impact any safety limits or limiting safety settings.

Therefore, the proposed license amendment would not involve a significant reduction in the margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd., MS LAW/JB, Juno Beach, FL 33408-0420.

NRC Branch Chief: Undine Shoop.

PSEG Nuclear LLC, and Exelon Generation Company, LLC, Docket Nos. 50-272 and 50-311, Salem Nuclear Generating Station, Unit Nos. 1 and 2, Salem County, New Jersey

Date of amendment request: April 8, 2019. A publicly-available version is in ADAMS under Accession No. ML19098B529.

Description of amendment request: The amendment would adopt Technical Specifications Task Force (TSTF) Traveler TSTF-563, “Revise Instrument Testing Definitions to Incorporate the Surveillance Frequency Control Program.” TSTF-563 revises the Technical Specification (TS) definitions of Channel Calibration and Channel Functional Test.

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises the TS definitions of Channel Calibration and Channel Functional Test to allow the frequency for testing the components or devices in each step to be determined in accordance with the TS Surveillance Frequency Control Program. The proposed change also explicitly permits the Channel Functional Test to be performed by any series of sequential, overlapping, or total channel steps. All components in the channel continue to be calibrated and tested. The frequency at which a channel is tested or calibrated is not an initiator of any accident previously evaluated, so the probability of an accident is not affected by the proposed change. The channels surveilled in accordance with the affected definitions continue to be required to be operable and the acceptance criteria of the surveillances are unchanged. As a result, any mitigating functions assumed in the accident analysis will continue to be performed.

Therefore, the proposed change does not involve a significant increase in the probability or consequences of an accident previously evaluated.

2. Does the proposed amendment create the possibility of a new or different kind of accident from any previously evaluated?

Response: No.

The proposed change revises the TS definitions of Channel Calibration and Channel Functional Test to allow the frequency for testing the components or devices in each step to be determined in accordance with the TS Surveillance Frequency Control Program. The proposed change also explicitly permits the Channel Functional Test to be performed by any series of sequential, overlapping, or total channel steps. All components in the channel continue to be calibrated and tested. The design function or operation of the components involved are not affected and there is no physical alteration of the plant (i.e., no new or different type of equipment will be installed). No credible new failure mechanisms, malfunctions, or accident initiators not considered in the design and licensing bases are introduced. The changes do not alter assumptions made in the safety analysis. The proposed changes are consistent with the safety analysis assumptions.

Therefore, the proposed change does not create the possibility of a new or different kind of accident from any previously evaluated.

3. Does the proposed amendment involve a significant reduction in a margin of safety?

Response: No.

The proposed change revises the TS definitions of Channel Calibration and Channel Functional Test to allow the frequency for testing the components or devices in each step to be determined in accordance with the TS Surveillance Frequency Control Program. The proposed change also explicitly permits the Channel Functional Test to be performed by any series of sequential, overlapping, or total channel steps. All components in the channel continue to be calibrated and tested. The Surveillance Frequency Control Program assures sufficient safety margins are maintained, and that that design, operation, surveillance methods, and acceptance criteria specified in applicable codes and standards (or alternatives approved for use by the NRC) will continue to be met as described in the plants' licensing basis. The proposed change does not adversely affect existing plant safety margins, or the reliability of the equipment assumed to operate in the safety analysis. As such, there are no changes being made to safety analysis assumptions, safety limits, or limiting safety system settings that would adversely affect plant safety as a result of the proposed change. Margins of safety are unaffected by method of determining surveillance test intervals under an NRC-approved licensee-controlled program.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Steven Fleischer, PSEG Services Corporation, 80 Park Plaza, T-5, Newark, NJ 07102.

NRC Branch Chief: James G. Danna.

PSEG Nuclear LLC, Docket No. 50-354, Hope Creek Generating Station, Salem County, New Jersey

Date of amendment request: April 22, 2019. A publicly-available version is in ADAMS under Accession No. ML19112A214.

Description of amendment request: The amendment would adopt Technical Specifications Task Force (TSTF) Traveler TSTF-564, Revision 2, “Safety Limit MCPR [Minimum Critical Power Ratio],” which would revise the Hope Creek Generating Station technical specification (TS) safety limit on minimum critical power ratio (SLMCPR) to reduce the need for cyclespecific changes to the value while still meeting the regulatory requirement for a safety limit.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment revises the TS SLMCPR and the list of individual specifications that address core operating limits to be included in the Core Operating Limits Report (COLR). The SLMCPR is not an initiator of any accident previously evaluated. The revised safety limit values continue to ensure for all accidents previously evaluated that the fuel cladding will be protected from failure due to transition boiling. The proposed change does not affect plant operation or any procedural or administrative controls on plant operation that affect the functions of preventing or mitigating any accidents previously evaluated.

Therefore, the proposed change does not involve a significant increase in the probability or consequences of an accident previously evaluated.

2. Does the proposed amendment create the possibility of a new or different kind of accident from any previously evaluated?

Response: No.

The proposed amendment revises the TS SLMCPR and the list of individual specifications that address core operating limits to be included in the COLR. The proposed change will not affect the design function or operation of any structures, systems or components (SSCs). No new equipment will be installed. As a result, the proposed change will not create any credible new failure mechanisms, malfunctions, or accident initiators not considered in the design and licensing bases.

Therefore, the proposed change does not create the possibility of a new or different kind of accident from any previously evaluated.

3. Does the proposed amendment involve a significant reduction in a margin of safety?

Response: No.

The proposed amendment revises the TS SLMCPR and the list of specifications that address core operating limits to be included in the COLR. This will result in a change to a safety limit, but will not result in a significant reduction in the margin of safety provided by the safety limit. As discussed in the application, changing the SLMCPR methodology to one based on a 95% probability with 95% confidence that no fuel rods experience transition boiling during an anticipated transient instead of the current limit based on ensuring that 99.9% of the fuel rods are not susceptible to boiling transition does not have a significant effect on plant response to any analyzed accident. The SLMCPR and the TS Limiting Condition for Operation (LCO) on MCPR continue to provide the same level of assurance as the current limits and do not reduce a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Steven Fleischer, PSEG Services Corporation, 80 Park Plaza, T-5, Newark, NJ 07102.

NRC Branch Chief: James G. Danna.

Virginia Electric and Power Company, Docket Nos. 50-338 and 50-339, North Anna Power Station, Units Nos. 1 and 2, Louisa County, Virginia and Docket Nos. 50-280 and 50-281, Surry Power Station, Unit Nos. 1 and 2, Surry County, Virginia, and Dominion Energy Nuclear Connecticut, Inc., Docket Nos. 50-245, 50-336 and 50-423, Millstone Power Station, Unit Nos. 1, 2, and 3, New London County, Connecticut

Date of amendment request: January 4, 2019. A publicly-available version is in ADAMS under Package Accession No. ML19011A237.

Description of amendment request: The amendments would authorize changes to the Millstone Power Station (MPS), North Anna Power Station (NAPS), and Surry Power Station (SPS) emergency plans to incorporate new Emergency Action Level (EAL) schemes prepared using the guidelines of Nuclear Energy Institute 99-01, Revision 6, “Methodology for the Development of Emergency Action Levels for Non-Passive Reactors,” November 2012.

Basis for proposed no significant hazards consideration determination: As required by 10 CFR 50.91(a), the licensee has provided its analysis of the issue of no significant hazards consideration, which is presented below:

1. Do the proposed amendments involve a significant increase in the probability or consequences of an accident previously evaluated?

Response: No.

The proposed changes affect the MPS, NAPS and SPS EALs by incorporating new EAL schemes, as well as associated revised engineering analysis, but do not alter any of the requirements of the Operating Licenses or the Technical Specifications. The proposed changes do not modify any plant equipment and do not impact any failure modes that could lead to an accident. Additionally, the proposed changes have no effect on the consequences of any analyzed accident since the changes do not affect any equipment related to accident mitigation. Based on this discussion, the proposed changes do not increase the probability or consequences of an accident previously evaluated.

2. Do the proposed amendments create the possibility of a new or different kind of accident from any accident previously evaluated?

Response: No.

The proposed changes affect the MPS, NAPS and SPS EALs by incorporating new EAL schemes, as well as associated revised engineering analysis, but do not alter any of the requirements of the Operating Licenses or the Technical Specifications. The changes do not modify any plant equipment and there are no impacts on the capability of existing equipment to perform its intended design functions. No system setpoints are being modified and no new failure modes are introduced by the proposed changes. The proposed changes do not introduce any new accident initiators or malfunctions that would cause a new or different kind of accident. Therefore, the proposed changes do not create the possibility of a new or different kind of accident from any accident previously evaluated.

3. Do the proposed amendments involve a significant reduction in a margin of safety?

Response: No.

The proposed changes affect the MPS, NAPS and SPS EALs by incorporating new EAL schemes, as well as associated revised engineering analysis, but do not alter any of the requirements of the Operating Licenses or the Technical Specifications. The proposed changes do not affect any of the assumptions used in the accident analyses, nor do the proposed changes affect any operability requirements for equipment important to plant safety. Therefore, the proposed changes will not result in a significant reduction in the margin of safety.

The NRC staff has reviewed the licensee's analysis and, based on this review, it appears that the three standards of 10 CFR 50.92(c) are satisfied. Therefore, the NRC staff proposes to determine that the amendment request involves no significant hazards consideration.

Attorney for licensee: Mr. W. S. Blair, Senior Counsel, Dominion Energy Services, Inc., 120 Tredegar Street, RS-2, Richmond, VA 23219.

NRC Branch Chief: Michael T. Markley.

Wolf Creek Nuclear Operating Corporation, Docket No. 50-482, Wolf Creek Generating Station, Unit 1, Coffey County, Kansas

Date of amendment request: March 18, 2019. A publicly-available version is in ADAMS under Accession No. ML19086A111.

Description of amendment request: The amendment would revise Technical Specification (TS) 3.3.5, “Loss of Power (LOP) Diesel Generator (DG) Start Instrumentation.” Specifically, the amendment would revise the degraded voltage and loss of voltage relays Allowable Values, nominal Trip Setpoints, and time delays specified in TS Surveillance Requirement 3.3.5.3, based on analysis using the guidance in Regulatory Issue Summary 2011-12, Revision 1, “Adequacy of Station Electric Distribution System Voltages” (ADAMS Accession No. ML113050583).

Basis for proposed no significant hazards consideration determination: As required by 10 CFR 50.91(a), the licensee has provided its analysis of the issue of no significant hazards consideration, which is presented below:

1. Does the proposed amendment involve a significant increase in the probability or consequences of an accident previously evaluated?

Response: No.

The proposed change to the LOV [loss of voltage] and DV [degraded voltage] Functions allows the protection scheme to function as originally designed. This change will involve alteration of the nominal Trip Setpoints in the field and will also be reflected in revisions to the surveillance procedures. The proposed change does not affect the probability or consequences of any accident.

Analysis was conducted and demonstrates that the proposed changes will allow the normally operating safety-related motors to not be damaged in the event of sustained degraded bus voltage during the time delay period prior to initiation of the first level LOV trip function. Therefore, these safety-related loads will be available to perform their design basis function should a loss-of-coolant accident (LOCA) occur concurrent with a loss-of-offsite power (LOOP) following the DV condition.

The proposed changes do not adversely affect accident initiators or precursors, and do not alter the design assumptions, conditions, or configuration or the plant or the manner in which the plant is operated or maintained. The proposed changes ensure that the 4.16kV [kilovolt] distribution system remains connected to the offsite power system when adequate offsite voltage is available and motor starting transients are considered. During an actual LOV condition, the LOV time delay will continue to isolate the 4.16kV distribution system from offsite power before the diesel generator (DG) is ready to assume the emergency loads, which is the limiting time basis for mitigating system responses to the accident.

Therefore, the proposed change does not involve a significant increase in the probability or consequences of an accident previously evaluated.

2. Does the proposed amendment create the possibility of a new or different kind of accident from any accident previously evaluated?

Response: No.

The proposed change involves the DV and LOV relays AV [allowable value], nominal Trip Setpoints, and time delays to satisfy existing design requirements. The proposed change does not introduce any changes or mechanisms that create the possibility of a new or different kind of accident. The proposed change does not install any new or different type of equipment, and installed equipment is not being operated in a new or different manner. No new effects on existing equipment are created nor are any new malfunctions introduced.

Therefore, the proposed change will not create the possibility of a new or different kind of accident from any accident previously evaluated.

3. Does the proposed amendment involve a significant reduction in a margin of safety?

Response: No.

The proposed changes to the DV and LOV relay AVs, nominal Trip Setpoints, and time delays continue to provide margin for the protection of equipment from sustained DV conditions. During an actual LOV condition, the LOV time delays will continue to isolate the 4.16kV distribution system from offsite power before the DG is ready to assume the emergency loads.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 1200 17th Street NW, Washington, DC 20036.

NRC Branch Chief: Robert J. Pascarelli.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, LLC, Docket No. 50-261, H. B. Robinson Steam Electric Plant, Unit No. 2 (Robinson), Darlington County, South Carolina

Duke Energy Progress, LLC, Docket No. 50-400, Shearon Harris Nuclear Power Plant, Unit 1 (Harris), Wake and Chatham Counties, North Carolina

Date of amendment request: October 19, 2017, as supplemented by letters dated June 5, October 15, and November 6, 2018.

Brief description of amendments: The amendments revised the Technical Specifications (TSs) to support the allowance of Duke Energy Progress, LLC to self-perform core reload design and safety analyses. These revisions included (1) adding the NRC-approved COPERNIC Topical Report (TR) to the list of TRs for Harris and Robinson and revised the peak fuel centerline temperature equation in Robinson TS 2.1.1.2 and Harris TS 2.1.1.b to be the equation used by COPERNIC; (2) relocating several TS parameters to the Core Operating Limits Reports for Harris and Robinson, (3) revising the Robinson TS Moderator Temperature Coefficient maximum upper limit, (4) revising the Harris TS definition of Shutdown Margin consistent with Technical Specifications Task Force (TSTF) Traveler TSTF-248, Revision 0 (ADAMS Accession No. ML040611010), “Revise Shutdown Margin Definition for Stuck Rod Exception,” and (5) revising the Robinson and Harris Power Distribution Limits limiting condition of operation actions and surveillance requirements, as well as the Robinson Reactor Protection System Instrumentation Table 3.3.1-1 to allow operation of a reactor core designed using the DPC-NE-2011-P [proprietary], “Nuclear Design Methodology Report for Core Operating Limits of Westinghouse Reactors,” methodology. (A redacted version, designated as DPC-NE-2011, is publicly-available under ADAMS Accession No. ML16125A420.)

Date of issuance: April 29, 2019.

Effective date: As of the date of issuance and shall be implemented prior to startup following the next refueling outage at each plant.

Amendment Nos.: 263 (Robinson) and 171 (Harris). A publicly-available version is in ADAMS under Accession No. ML18288A139; documents related to these amendments are listed in the Safety Evaluation enclosed with the amendments.

Renewed Facility Operating License Nos. DPR-23 and NPF-63: The amendments revised the Renewed Facility Operating Licenses and TSs.

Date of initial notice in Federal Register: January 2, 2018 (83 FR 166). The supplemental letter dated November 6, 2018, provided additional information that expanded the scope of the application as originally noticed and changed the NRC staff's original proposed no significant hazards consideration determination as published in the Federal Register. Accordingly, the NRC published a second proposed no significant hazards consideration determination in the Federal Register on December 4, 2018 (83 FR 62613). This notice superseded the original notice in its entirety.

The Commission's related evaluation of the amendments is contained in a Safety Evaluation dated April 29, 2019.

No significant hazards consideration comments received: No.

Duke Energy Progress, LLC, Docket Nos. 50-325 and 50-324, Brunswick Steam Electric Plant, Units 1 and 2, Brunswick County, North Carolina

Date of amendment request: April 4, 2018, as supplemented by letters dated May 29, 2018; September 27, 2018; and December 11, 2018.

Brief description of amendments: The amendments revised the Brunswick Steam Electric Plant, Units 1 and 2, Technical Specifications to relocate the pressure-temperature limit curves to a licensee-controlled Pressure and Temperature Limits Report (PTLR). The amendment request was submitted in accordance with guidance provided in NRC Generic Letter 96-03, “Relocation of the Pressure Temperature Limit Curves and Low Temperature Overpressure Protections System Limits,” dated January 31, 1996, and Technical Specifications Task Force (TSTF) Traveler TSTF-419, Revision 0, “Revise PTLR Definition and References in ISTS 5.6.6, RCS PTLR,” dated March 21, 2002.

Date of issuance: April 22, 2019.

Effective date: As of the date of issuance and shall be implemented within 120 days of issuance.

Amendment Nos.: 289 (Unit 1) and 317 (Unit 2). A publicly-available version is in ADAMS under Accession No. ML19035A006; documents related to these amendments are listed in the Safety Evaluation enclosed with the amendments.

Renewed Facility Operating License Nos. DPR-71 and DPR-62: The amendments revised the Renewed Facility Operating Licenses and Technical Specifications.

Date of initial notice in Federal Register: July 17, 2018 (83 FR 33266). The supplemental letters dated September 27, 2018, and December 11, 2018, provided additional information that clarified the application, did not expand the scope of the application as originally noticed, and did not change the NRC staff's original proposed no significant hazards consideration determination.

The Commission's related evaluation of the amendments is contained in a Safety Evaluation dated April 22, 2019.

No significant hazards consideration comments received: No.

Entergy Louisiana, LLC, and Entergy Operations, Inc., Docket No. 50-458, River Bend Station, Unit 1 (River Bend), West Feliciana Parish, Louisiana

Date of amendment request: February 28, 2018, as supplemented by letters dated July 10, July 24, December 17, and December 20, 2018.

Brief description of amendment: The amendment modified the River Bend Technical Specifications (TSs) to allow relocation of specific surveillance frequencies to a licensee-controlled program with the implementation of Technical Specifications Task Force (TSTF) Traveler TSTF-425, Revision 3, “Relocate Surveillance Frequencies to Licensee Control—RITSTF [Risk Informed TSTF] Initiative 5b.” The amendment added a new program, the Surveillance Frequency Control Program, to TS Chapter 5.0, “Administrative Controls,” and required future surveillance frequency changes to be made in accordance with an NRC-approved methodology.

Date of issuance: April 29, 2019.

Effective date: As of the date of issuance and shall be implemented 90 days from the date of issuance.

Amendment No.: 196. A publicly-available version is in ADAMS under Accession No. ML19066A008; documents related to this amendment are listed in the Safety Evaluation enclosed with the amendment.

Facility Operating License No. NPF-47: The amendment revised the Renewed Facility Operating License and TSs.

Date of initial notice in Federal Register: May 22, 2018 (83 FR 23733). The supplemental letters dated July 10, July 24, December 17, and December 20, 2018, provided additional information that clarified the application, did not expand the scope of the application as originally noticed, and did not change the NRC staff's original proposed no significant hazards consideration determination as published in the Federal Register.

The Commission's related evaluation of the amendment is contained in a Safety Evaluation dated April 29, 2019.

No significant hazards consideration comments received: No.

Entergy Operations, Inc., Docket No. 50-368, Arkansas Nuclear One, Unit 2, Pope County, Arkansas

Date of amendment request: February 6, 2018, as supplemented by letters dated March 26, September 7, and November 16, 2018.

Brief description of amendment: The amendment revised the Arkansas Nuclear One, Unit 2, Technical Specifications and operating license by relocating certain surveillance frequencies to a licensee-controlled program, consistent with the NRC-approved Technical Specifications Task Force (TSTF) Improved Standard Technical Specifications Traveler TSTF-425, Revision 3, “Relocate Surveillance Frequencies to Licensee Control—RITSTF [Risk-Informed TSTF] Initiative 5b.”

Date of issuance: April 23, 2019.

Effective date: As of the date of issuance and shall be implemented within 90 days from the date of issuance.

Amendment No.: 315. A publicly-available version is in ADAMS under Accession No. ML19063B948; documents related to this amendment are listed in the Safety Evaluation enclosed with the amendment.

Renewed Facility Operating License No. NPF-6: The amendment revised the Renewed Facility Operating License and Technical Specifications.

Date of initial notice in Federal Register: June 5, 2018 (83 FR 26102). The supplemental letters dated September 7, 2018, and November 16, 2018, provided additional information that clarified the application, did not expand the scope of the application as originally noticed, and did not change the NRC staff's original proposed no significant hazards consideration determination as published in the Federal Register.

The Commission's related evaluation of the amendment is contained in a Safety Evaluation dated April 23, 2019.

No significant hazards consideration comments received: No.

Florida Power & Light Company, et al., Docket No. 50-389, St. Lucie Plant, Unit No. 2, St. Lucie County, Florida

Date of amendment request: June 29, 2018, as supplemented by letters dated August 17, 2018; November 15, 2018; and February 22, 2019.

Brief description of amendment: The amendment revised the Technical Specifications (TSs) by reducing the total number of control element assemblies specified in the TSs from 91 to 87.

Date of issuance: April 23, 2019.

Effective date: As of the date of issuance and shall be implemented prior to startup from the spring 2020 refueling outage.

Amendment No.: 198. A publicly-available version is in ADAMS under Accession No. ML19058A492; documents related to this amendment are listed in the Safety Evaluation enclosed with the amendment.

Renewed Facility Operating License No. NPF-16: The amendment revised the Renewed Facility Operating License and TSs.

Date of initial notice in Federal Register: October 9, 2018 (83 FR 50696). The supplemental letters dated November 15, 2018, and February 22, 2019, provided additional information that clarified the application, did not expand the scope of the application as originally noticed, and did not change the NRC staff's original proposed no significant hazards consideration determination as published in the Federal Register.

The Commission's related evaluation of the amendment is contained in a Safety Evaluation dated April 23, 2019.

No significant hazards consideration comments received: No.

NextEra Energy, Point Beach, LLC, Docket Nos. 50-266 and 50-301, Point Beach Nuclear Plant (Point Beach), Units 1 and 2, Town of Two Creeks, Manitowoc County, Wisconsin

Date of amendment request: March 30, 2018, as supplemented by letter dated November 16, 2018.

Brief description of amendments: The amendments revised the Point Beach Technical Specification 5.5.15, “Containment Leakage Rate Testing Program,” to allow extension of the 10-year frequency of the Type A Integrated Leak Rate Test to 15 years on a permanent basis and to allow the extension of the Containment Isolation Valves leakage test interval (i.e., Type C tests) from its current 60 months frequency to 75 months.

Date of issuance: April 25, 2019.

Effective date: As of the date of issuance and shall be implemented within 90 days of issuance.

Amendment Nos.: 265 (Unit 1) and 268 (Unit 2). A publicly-available version is in ADAMS under Accession No. ML19064A904; documents related to these amendments are listed in the Safety Evaluation enclosed with the amendments.

Renewed Facility Operating License Nos. DPR-24 and DPR-27: The amendments revised the Renewed Facility Operating Licenses and Technical Specifications.

Date of initial notice in Federal Register: June 19, 2018 (83 FR 28461).

The supplemental letter dated November 16, 2018, provided additional information that clarified the application, did not expand the scope of the application as originally noticed, and did not change the NRC staff's original proposed no significant hazards consideration determination as published in the Federal Register.

The Commission's related evaluation of the amendments is contained in a Safety Evaluation dated April 25, 2019.

No significant hazards consideration comments received: No.

PSEG Nuclear LLC, Docket No. 50-354, Hope Creek Generating Station, Salem County, New Jersey

Date of amendment request: March 28, 2018, as supplemented by letters dated September 26, 2018, and February 28, 2019.

Brief description of amendment: The amendment revised the Hope Creek Generating Station Technical Specification ¾.8.1, “A.C. Sources—Operating,” specifically, Action b, concerning one inoperable emergency diesel generator. The change removes the Salem Nuclear Generating Station, Unit 3, gas turbine generator and replaces it with portable diesel generators.

Date of issuance: April 30, 2019.

Effective date: As of the date of issuance and shall be implemented within 1 year of the date of issuance.

Amendment No.: 216. A publicly-available version is in ADAMS under Accession No. ML19073A073; documents related to this amendment are listed in the Safety Evaluation enclosed with the amendment.

Renewed Facility Operating License No. NPF-57: The amendment revised the Renewed Facility Operating License and Technical Specifications.

Date of initial notice in Federal Register: June 5, 2018 (83 FR 26106). The supplemental letters dated September 26, 2018, and February 28, 2019, provided additional information that clarified the application, did not expand the scope of the application as originally noticed, and did not change the NRC staff's original proposed no significant hazards consideration determination as published in the Federal Register.

The Commission's related evaluation of the amendment is contained in a Safety Evaluation dated April 30, 2019.

No significant hazards consideration comments received: No.

South Carolina Electric & Gas Company, South Carolina Public Service Authority, Docket No. 50-395, Virgil C. Summer Nuclear Station, Unit No. 1, Fairfield County, South Carolina

Date of amendment request: September 27, 2018, as supplemented by letter dated March 11, 2019.

Brief description of amendment: The amendment corrected a non-conservative Technical Specification by revising the inter-cell resistance value listed in Surveillance Requirements 4.8.2.1.b.2 and 4.8.2.1.c.3.

Date of issuance: April 30, 2019.

Effective date: As of the date of issuance and shall be implemented within 60 days of issuance.

Amendment No.: 215. A publicly-available version is in ADAMS under Accession No. ML19080A103; documents related to this amendment are listed in the Safety Evaluation enclosed with the amendment.

Renewed Facility Operating License No. NPF-12: The amendment revised the Renewed Facility Operating License and Technical Specifications.

Date of initial notice in Federal Register: November 20, 2018 (83 FR 58607). The supplemental letter dated March 11, 2019, provided additional information that clarified the application, did not expand the scope of the application as originally noticed, and did not change the NRC staff's original proposed no significant hazards consideration determination as published in the Federal Register.

The Commission's related evaluation of the amendment is contained in a Safety Evaluation dated April 30, 2019.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: August 6, 2018. A publicly-available version is in ADAMS under Accession No. ML18218A297.

Brief description of amendments: The amendments revise the Unit No. 1 and Unit No. 2 Technical Specifications (TS) requirements of TS 3.6.2.5, “Residual Heat Removal (RHR) Drywell Spray,” to allow the affected unit to remain in Hot Shutdown (Mode 3) instead of proceeding to Cold Shutdown (Mode 4) when the Required Actions of Condition C cannot be met for the drywell spray system.

Date of issuance: April 30, 2019.

Effective date: As of the date of issuance and shall be implemented within 90 days from the date of issuance.

Amendment Nos.: 296 (Unit No. 1) and 241 (Unit No. 2). A publicly-available version is in ADAMS under Accession No. ML19091A291; documents related to these amendments are listed in the Safety Evaluation enclosed with the amendments.

Renewed Facility Operating License Nos. DPR-57 and NPF-5: The amendments revised the Renewed Facility Operating Licenses and TSs.

Date of initial notice in Federal Register: December 4, 2018 (83 FR 62618).

The Commission's related evaluation of the amendments is contained in a Safety Evaluation dated April 30, 2019.

No significant hazards consideration comments received: No.

Southern Nuclear Operating Company, Inc., Docket Nos. 50-348 and 50-364, Joseph M. Farley Nuclear Plant (Farley), Units 1 and 2, Houston County, Alabama, Southern Nuclear Operating Company, Inc., Docket Nos. 50-321 and 50-366, Edwin I. Hatch Nuclear Plant (Hatch), Unit Nos. 1 and 2, City of Dalton, Georgia

Southern Nuclear Operating Company, Inc., Docket Nos. 50-424 and 50-425, Vogtle Electric Generating Plant (Vogtle), Units 1 and 2, Burke County, Georgia

Date of amendment request: August 9, 2018, as supplemented by letter dated January 31, 2019.

Brief description of amendments: The amendments revised Technical Specification (TS) 5.2.2.g to eliminate a dedicated shift technical advisor (STA) position at Farley, Units 1 and 2, and Hatch, Units 1 and 2, by allowing the STA functions to be combined with one or more of the required senior licensed operator positions. The Vogtle, Units 1 and 2, TS change aligns the facilities with equivalent wording. This change also incorporated wording related to the modes of operation during which the individual meeting the requirements in TS 5.2.2.g is required and provided guidance that the same individual may provide advisory technical support for both units.

Date of issuance: April 26, 2019.

Effective date: As of the date of issuance and shall be implemented within 90 days of issuance.

Amendment Nos.: Farley—222 (Unit 1) and 219 (Unit 2); Hatch—295 (Unit 1) and 240 (Unit 2); and Vogtle—199 (Unit 1) and 182 (Unit 2). A publicly-available version is in ADAMS under Accession No. ML19064A774; documents related to these amendments are listed in the Safety Evaluation enclosed with the amendments.

Facility Operating License Nos. NPF-2, NPF-5, NPF-8, NPF-68, NPF-81, and DPR-57: The amendments revised the Facility Operating Licenses and TSs.

Date of initial notice in Federal Register: October 23, 2018 (83 FR 53515). The supplemental letter dated January 31, 2019, provided additional information that clarified the application, did not expand the scope of the application as originally noticed, and did not change the NRC staff's original proposed no significant hazards consideration determination as published in the Federal Register.

The Commission's related evaluation of the amendment is contained in a Safety Evaluation dated April 26, 2019.

No significant hazards consideration comments received: No.

Dated at Rockville, Maryland, this 14th day of May 2019.
For the Nuclear Regulatory Commission.
Craig G. Erlanger,
Director, Division of Operating Reactor Licensing, Office of Nuclear Reactor Regulation.

[FR Doc. 2019-10315 Filed 5-20-19; 8:45 am]

BILLING CODE 7590-01-P